DEPARTMENT OF JUSTICE

[Docket No. OTJ 110]

United States Assumption of Concurrent Federal Criminal Jurisdiction; Mille Lacs Band of Ojibwe

AGENCY: Office of Tribal Justice, Department of Justice.

ACTION: Notice.

SUMMARY: The Deputy Attorney General, exercising authority delegated by the Attorney General, is granting the request by the Mille Lacs Band of Ojibwe for United States Assumption of Concurrent Federal Criminal Jurisdiction, pursuant to the provisions of 28 CFR 50.25. Concurrent federal criminal jurisdiction will take effect on January 1, 2017.

DATES: This notice is effective January 20, 2016.

ADDRESSES: Mr. Tracy Toulou, Director, Office of Tribal Justice, Department of Justice, 950 Pennsylvania Avenue NW., Room 2310, Washington, DC 20530, email OTJ@usdoj.gov.

FOR FURTHER INFORMATION CONTACT: Mr. Tracy Toulou, Director, Office of Tribal Justice, Department of Justice, at (202) 514-8812 (not a toll-free number) or OTJ@usdoj.gov.

SUPPLEMENTARY INFORMATION:

Statutory Background

The Tribal Law and Order Act (TLOA) was enacted on July 29, 2010, as Title II of Public Law 111-211. The purpose of TLOA is to help the Federal Government and tribal governments better address the unique public safety challenges that confront tribal communities. Section 221(b) of the new law, now codified at 18 U.S.C. 1162(d), permits an Indian tribe with Indian country subject to State criminal jurisdiction under Public Law 280, P.L. 83-280, 67 Stat. 588 (1953), to request that the United States accept concurrent jurisdiction to prosecute violations of the General Crimes Act (18 U.S.C. 1152) and the Major Crimes Act (18 U.S.C. 1153) within that tribe's Indian country.

Department of Justice Regulation Implementing 18 U.S.C. 1162(d)

On December 6, 2011, the Department published final regulations that established the framework and procedures for a mandatory Public Law 280 tribe to request the assumption of concurrent Federal criminal jurisdiction within the Indian country of the tribe that is subject to Public Law 280. 76 FR 76037 (Dec. 6, 2011), codified at 28 CFR 50.25. Among other provisions, the regulations provide that, upon acceptance of a tribal request, the Office of Tribal Justice shall publish notice of the consent in the Federal Register.

Request by the Mille Lacs Band of Ojibwe

By a request dated February 22, 2013, the Mille Lacs Band of Ojibwe, located in the State of Minnesota, requested that the United States assume concurrent Federal jurisdiction to prosecute violations of the General Crimes Act and the Major Crimes Act within the Indian country of the tribe. This would allow the United States to assume concurrent criminal jurisdiction over offenses within the Indian country of the tribe without eliminating or affecting the State's existing criminal jurisdiction.

In deciding to grant the tribe's request, the Department followed the procedures described in the Department's final notice on Assumption of Concurrent Federal Criminal Jurisdiction in Certain Areas of Indian Country, 76 FR 76037 (Dec. 6, 2011). The Federal government's assumption of concurrent federal criminal jurisdiction within the Indian country of the Mille Lace Band of Ojibwe will take effect on January 1, 2017.

Dated: January 20, 2016.
Tracy Toulou,
Director, Office of Tribal Justice.

[FR Doc. 2016-01524 Filed 1-25-16; 8:45 am]

BILLING CODE 4410-A5-P